ENVIRONMENTAL PROTECTION AGENCY

[V-W-12-C-994; FRL-9658-8]

Proposed Administrative Cashout Agreement Pursuant to the Comprehensive Environmental Response, Compensation, and Liability Act; In Re: Tecumseh Heus Superfund Site, Calumet County, WI

AGENCY: U.S. Environmental Protection Agency.

ACTION: Notice; request for public comment.

SUMMARY: Notice is hereby given of a proposed administrative settlement under CERCLA concerning the Tecumseh Heus Superfund Site (“Site”) in Calumet County, Wisconsin. Subject to review and comment by the public pursuant to this notice. The settlement resolves a United States Environmental Protection Agency (EPA) claim under Sections 106, 107(a), and 122 of CERCLA, against two parties who have executed binding certifications of their consent to the settlement, as listed below in the SUPPLEMENTARY INFORMATION section. The settlement requires the settling parties to pay a total of $60,000 to the EPA Hazardous Substances Superfund. Each settling party is required to pay an amount specified for that party in the settlement. Payments received shall be applied, retained, or used to finance the response actions taken or to be taken at or in connection with the Site. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, 7th Floor File Room, 77 West Jackson Boulevard, Chicago, Illinois.

DATES: Comments must be submitted on or before May 16, 2012.

ADDRESSES: The proposed settlement is available for public inspection at the EPA, Region 5, 7th Floor File Room, 77 West Jackson Boulevard, Chicago, Illinois. In addition, a copy of the proposed settlement also may be obtained from Nola M. Hicks, Associate Regional Counsel (C-14J), Region 5, 77 West Jackson Boulevard, Chicago, Illinois 60604-3590, or by calling (312) 886-7949. Comments should reference the Tecumseh Heus Superfund Site, Calumet County, Wisconsin and EPA Docket No. and should be addressed to Nola M. Hicks, Associate Regional Counsel (C-14J), Region 5, 77 West Jackson Boulevard, Chicago, Illinois 60604.

SUPPLEMENTARY INFORMATION: The parties listed below have executed binding certifications of their consent to participate in the settlement.

Tecumseh Products Company;

TecumsehPower Company.

FOR FURTHER INFORMATION CONTACT: Nola M. Hicks, Associate Regional Counsel (C-14J), Region 5, 77 West Jackson Boulevard, Chicago, Illinois 60604, or call (312) 886-7949.

Authority: The Comprehensive Environmental Response, Compensation, and Liability Act of 1980, 42 U.S.C. 9604, 9606(a), 9607, and 9622, as amended.

Dated: March 26, 2012.
Sharon Jaffess,
Acting Director, Superfund Division, Region 5.

[FR Doc. 2012-9076 Filed 4-13-12; 8:45 am]

BILLING CODE 6560-50-P